DEPARTMENT OF LABOR

Office of Disability Employment Policy

Innovative Demonstration Grants for Youth With Disabilities

AGENCY: Office of Disability Employment Policy, Labor.

ACTION: Notice of Availability of Funds and Solicitation for Grant Applications of Innovative Demonstration Grants for Youth with Disabilities (SGA 02-12).

SUMMARY: The U.S. Department of Labor (“DOL” or “Department”), Office of Disability Employment Policy (“ODEP”) announces the availability of $2.5 million to award competitive grants to fund model demonstration programs designed to enhance the capacity of youth programs working in coordination with the Workforce Investment Act (WIA) (Pub. L. 105-220, 29 U.S.C. 2801 et seq.) to serve youth with disabilities. Up to five competitive grants will be awarded in the range of $350,000 to $500,000. These awards are for a two-year period of performance. To be eligible, applicants must be local WIA grant recipients, fiscal agents for such grant recipients, Local Workforce Investment Boards (Local Boards), and/or competitively selected eligible youth service providers with formal agreements with such organizations.

Each grant must involve members of two specific groups in strategic planning and implementation activities: Youth with disabilities (including those with hidden disabilities such as psychiatric disabilities, substance addiction, mental retardation and learning disabilities), relevant experts in the field of young people with disabilities (such as disability organizations, researchers, policy makers, employers, family members and/or family organizations, independent living centers, or service providers). Each grant must also include a management and evaluation component. All forms necessary to prepare an application are included in this Solicitation for Grant Application (SGA.) If another copy of a Standard Form is needed, go online to http://www.whitehouse.gov/OMB/grants/forms.html.

DATES: One (1) ink-signed original, complete grant application plus two (2) copies of the Technical Proposal and two (2) copies of the Cost Proposal must be submitted to the U.S. Department of Labor, Procurement Services Center, Attention Grant Officer, Reference SGA 02-12, Room N-5416, 200 Constitution Avenue, NW., Washington, DC 20210, not later than 4:45 p.m., Eastern Daylight Savings Time (EDST), August 12, 2002. Hand-delivered applications must be received by the Procurement Services Center by that time.

ADDRESSES: Applications must be directed to the U.S. Department of Labor, Procurement Services Center, Attention: Grant Officer, Reference SGA 02-12, Room N-5416, 200 Constitution Ave., NW., Washington, DC 20210.

FOR FURTHER INFORMATION CONTACT: All applicants are advised that U.S. mail delivery in the Washington, DC area has been erratic due to concerns involving anthrax contamination. All applicants must take this into consideration when preparing to meet the application deadline. It is recommended that you confirm receipt of your application by contacting Cassandra Willis, U.S. Department of Labor, Procurement Services Center, telephone (202) 693-4570 (this is not a toll-free number), prior to the closing deadline.

Acceptable Methods of Submission:

The application package must be received at the designated place by the date and time specified or it will not be considered. Any application received at the Office of Procurement Services Center after 4:45 p.m., EDST, August 12, 2002, will not be considered unless it is received before the award is made and:

1. It was sent by registered or certified mail not later than the fifth calendar day before August 12, 2002; or

2. It was sent by U.S. Postal Service Express Mail Next Day Service-Post Office to Addressee, not later than 5:00 p.m. at the place of mailing two (2) working days, excluding weekends and Federal holidays, prior to August 12, 2002; or

3. It is determined by the Government that the late receipt was due solely to mishandling by the Government after receipt at the U.S. Department of Labor at the address indicated.

The only acceptable evidence to establish the date of mailing of a late application sent by registered or certified mail is the U.S. Postal Service postmark on the envelope or wrapper and on the original receipt from the U.S. Postal Service. If the postmark is not legible, an application received after the above closing time and date shall be processed as if mailed late. “Postmark” means a printed, stamped or otherwise placed impression (not a postage meter machine impression) that is readily identifiable without further action as having been applied and affixed by an employee of the U.S. Postal Service on the date of mailing. Therefore, applicants should request the postal clerk place a legible hand cancellation “bulls-eye” postmark on both the receipt and the envelope or wrapper.

The only acceptable evidence to establish the time of receipt at the U. S. Department of Labor is the date/time stamp of the Procurement Services Center on the application wrapper or other documentary evidence or receipt maintained by that office.

Applications sent by other delivery services, such as Federal Express, UPS, etc., will also be accepted; however, the applicant bears the responsibility of timely submission.

All applicants are advised that U.S. mail delivery in the Washington, DC area has been erratic due to concerns involving anthrax contamination. All applicants must take this into consideration when preparing to meet the application deadline. Therefore, it is recommended that you confirm receipt of your application by contacting Cassandra Willis, U.S. Department of Labor, Procurement Services Center, telephone (202) 693-4570, (this is not a toll-free number), prior to the closing deadline. Persons who are deaf or hard of hearing may contact the Department via the Federal Relay Service, (800) 877-8339.

SUPPLEMENTARY INFORMATION:

I. Authority

Consolidated Appropriations Act, 2001, Pub. L. 106-554, 114 Stat. 2763, A-10, 29 U.S.C. 557(b); DOL, HHS, Education & Related Agencies Appropriations Act, 2002, Pub L. 107-116, 115 Stat. 2177.

II. Background

The President's “New Freedom Initiative” is designed to increase the number of people with disabilities who enter, re-enter, and remain in the workforce. This initiative is dedicated to increasing investment in, and access to, assistive technologies and expanding educational opportunities in order to increase the ability of individuals with disabilities to integrate into the workforce; and to promote increased access into the community.¹

¹ For more information about the New Freedom Initiative, go to the White House web page at www.whitehouse.gov/news/freedominitiative.

A key to increasing the employment of people with disabilities is to ensure that young people with disabilities are provided resources and assistance to move from school to work, as opposed to becoming dependent on welfare or other benefits programs. One way of accomplishing this is to increase the participation of youth with disabilities in mainstream workforce development activities under the Workforce Investment Act of 1998 (WIA).

According to the U.S. Department of Education, the national high school graduation rates (e.g. diplomas, GED, alternative certificates) for students with disabilities are below that of youth without disabilities. Nearly nine-tenths (88%) of students without disabilities graduate, compared to only 62% of youth with disabilities.² Moreover, students with disabilities experience a school drop out rate that is 3 times greater than that for youth without disabilities—31% vs. 11%. Youth with emotional disabilities experience an even higher drop out rate of 54%. It is estimated that only one-third of young people with disabilities who need job training receive it. Young people with disabilities also have significantly lower rates of participation in post-secondary education. Finally, the Social Security Administration has found that many young people with disabilities who enter the Supplementary Security Income (SSI)/Social Security Disability Insurance (SSDI) rolls are likely to remain on the program rolls for their entire lives.

² U.S. Department of Education, National Center on Education Statistics, The Condition of Education 2000 in Brief, Jeanne H. Nathanson NCES 2001-045, Washington, DC; U.S. Government Printing Office, 2001 U.S. Department of Education, Office of Special Education and Rehabilitation Services, Twenty-second Annual Report to Congress on the Implementation of the Individuals with Disabilities Act, Washington, DC, U.S. Government Printing Office, 2000.

The federal/state vocational rehabilitation system is neither large enough to serve, nor solely responsible for serving, all youth with disabilities that depart the school system. According to the U.S. Department of Education, each year approximately 500,000 young people with disabilities leave our nation's schools. Vocational rehabilitation programs are able to serve less than 40,000 of these young people with disabilities. Many of the remaining 460,000 youth with disabilities are potentially eligible for youth programs supported under WIA. One of the most significant reforms under WIA section 129(c) [29 U.S.C. 2854(c)], is the consolidation of the year-round youth program and the summer youth program into a single formula-based funding stream. Under WIA, each local workforce investment area must have a year-round youth services strategy that incorporates summer youth employment opportunities as one of ten required program elements (WIA section 129(c)(2), 20 CFR 644.410). The ten program elements reflect successful youth development approaches and focus on the following four key themes:

1. Improving educational achievement (including such elements as tutoring, study skills training, and instruction leading to secondary school completion, drop-out prevention strategies, and alternative secondary school offerings);

2. Preparing for and succeeding in employment (including summer employment opportunities, paid and unpaid work experience, and occupational skills training);

3. Supporting youth (including supportive services needs, providing adult mentoring, follow-up services, and comprehensive guidance and counseling); and

4. Offering services intended to develop the potential of young people as citizens and leaders (including leadership development opportunities.)

WIA provides a variety of work preparation programs that can assist youth with disabilities in achieving their career ambitions. The potential is great for these programs to prepare eligible youth participants with disabilities for employment. These services need to be made available to young people with disabilities. Traditionally, however, they are not recruited to participate in these programs. WIA youth service providers may not be aware of the need to serve youth with disabilities in their communities and may lack the resources to develop strong partnerships and an equitable referral/assessment system.

Moreover, vocational rehabilitation agencies, special education agencies, and other agencies serving youth with disabilities may not be aware of the potential for coordinating resources with WIA-based programs. They may also be unaware of opportunities for creating mechanisms for such programs to cooperate and support young people with disabilities.

Currently, WIA-assisted youth programs report that difficulties in identifying the number of youth with non-visible disabilities who already participate in WIA-assisted youth programs hinders the long-term success of these young people. Because the disabilities of many youth go unidentified in WIA-assisted youth programs, the rate of their failure may be higher than for those whose disabilities are evident.

The U.S. Department of Labor has determined that youth programs must be strengthened to better serve young people with disabilities. ODEP's vision incorporates providing technical assistance and support designed to assist WIA-assisted youth programs to increase the capacity of those programs to serve people with disabilities.

In order to accomplish this goal, a two-pronged approach will be used. This approach includes:

1. Awarding grants designed to demonstrate and further develop the capacity of WIA-assisted youth programs to serve youth with disabilities; and,

2. Maintaining a technical assistance program to support capacity building for various youth programs.

In combination, these activities contribute to achieving the goals of the President's “New Freedom Initiative”.

This SGA is designed to further the first of these activities. The supporting national technical assistance program (the WIA Disability Technical Assistance Consortia for Adults and Youth) was established in October 2001 to help with the implementation of these demonstration grants.

III. Purpose

This SGA supports model demonstration projects that develop, implement, evaluate, and disseminate new or improved approaches that generate knowledge, and promote best practices to WIA-assisted youth programs. Its purpose is to increase participation and improve results in those programs for young people with disabilities including those with hidden disabilities such as psychiatric disabilities, substance addiction, mental retardation, and learning disabilities.

For the purposes of this SGA, a youth with a disability is defined as a youth aged 14 to 21 years old who (1) has a physical or mental impairment that substantially limits one or more of his or her major life activities or; (2) has a record of such an impairment; or; (3) is regarded as having such an impairment.

The purpose of these demonstration projects is to help WIA-assisted youth programs develop their capacity to serve youth with disabilities. This capacity building will allow these programs to develop and further demonstrate strategies and techniques to increase the participation of youth with disabilities. These strategies and techniques can, in turn, serve as models for similar WIA-assisted youth programs. These projects will target youth both in- and out-of-school. As a result of these demonstrations, and associated technical assistance efforts, ODEP anticipates that all WIA-assisted youth programs will learn from and follow these examples. This should result in a system-wide increase in the successful participation of youth with disabilities in all WIA-assisted youth programs.

Included in the objectives of these model demonstration projects is a goal of building upon and enhancing the integrated youth development approach envisioned under WIA, by incorporating knowledge of best practices developed through 15 years of research from the fields of rehabilitation, special education, maternal and child health, school-to-work, and youth development as discussed in Section IV of this SGA.

Projects are required to collaborate with the WIA Disability Technical Assistance Consortia for Adults and Youth (described above in the Background Section) designed to provide assistance to other WIA-assisted youth programs, in order to catalyze the systems changes outlined in the SGA.

IV. Statement of Work

This SGA seeks proposals from organizations that will implement demonstration projects designed to develop their WIA-assisted youth program's capacity to increase its services to youth with disabilities including those with non-visible disabilities such as psychiatric disabilities, substance addiction, mental retardation, and learning disabilities. The ultimate goal is to allow these programs to become leaders in developing and further demonstrating strategies and techniques to increase both the participation of and results for youth with disabilities.

These grants are designed to enable WIA-assisted youth programs to support those needed efforts to achieve improved service to youth with disabilities in their existing programs. Grant funds may not be used to provide direct service payments for youth with disabilities; existing funding is to be used for this purpose. Rather, these funds are intended to be used in ways which create system change or overall program improvements to enable youth programs to more successfully serve youth with disabilities.

Under this grant, grantees must serve at least 40 youth with disabilities each year or, if the program has fewer than 200 participants, at least 20% of them must be participants with disabilities.

Proposals must demonstrate how the grantee would develop, implement, evaluate, and disseminate new or improved approaches to the youth programs that generate knowledge and promote best practices, to increase participation, and improve results in those programs for young people with disabilities. In addition, grantees must participate in technical assistance efforts designed to disseminate to other programs their successful strategies and techniques for serving greater numbers of youth with disabilities including those with non-visible disabilities.

All grantees must operate demonstration projects that integrate the four key themes and ten program elements of WIA-assisted youth programs, listed at WIA section 129(c)(2) (20 CFR 644.410) discussed above with one or more of the following best practice features:

1. Demonstrations focused on promoting effective structures, policies, and practices to improve results for youth with disabilities in WIA-assisted programs, including those with non-visible disabilities, in areas such as admission, enrollment, assessment, staff development, interagency coordination, etc.;

2. Demonstrations of effective service interventions and approaches that help young people with disabilities to overcome barriers to positive education and employment outcomes including such things as illicit drug use;

3. Demonstrations that focus on the link between academic and occupational skill standards; and on the integration of academic and applied learning in real work settings;

4. Demonstrations that focus on supporting and accommodating young people with disabilities in integrated, inclusive work, and work-preparation environments at all times, especially if their educational program has been delivered even partially in a segregated setting;

5. Demonstrations that focus on youth-centered planning and development (e.g., assessment, choice, rights and responsibilities, life skills, drop out prevention strategies, paid and unpaid work experiences, leadership development, adult mentoring);

6. Demonstrations that focus on promoting physical and mental health, substance abuse prevention, and the link between health and positive educational and employment outcomes;

7. Demonstrations that focus on increasing the type of involvement by business, family, and community, that create effective connections to intermediaries with strong links to the job market and to local and regional employers;

8. Demonstrations which develop and leverage linkages with other state and local initiatives that provide services and supports for young people with significant disabilities. Such initiatives may include, but are not limited to, systems change efforts promoting enduring systems improvement and comprehensive coordination; health care; substance abuse prevention; housing; transportation; education; supported employment; small business development; technology related assistance; private foundations; faith-based initiatives; and

9. Demonstrations that research alternative methods of measuring WIA performance outcomes that consider the various characteristics of people with disabilities, including those with non-visible disabilities.

Some examples of resources for information about WIA-assisted youth program components and these best practice features can be located on the following Web sites:

1. Employment and Training Administration (ETA) Office of Youth Services Web site: www.doleta.gov/youth—services.

2. National Transition Alliance for Youth with Disabilities: www.dssc.org/nta.

3. The Department of Health and Human Services, Maternal and Child Health, “Healthy and Ready to Work” Web site: www.mchbhrtw.org.

4. National Youth Employment Coalition, Program and Effective Practices Network (PEPNET) Web site: www.nyec.org.

5. National Center on Secondary Education and Transition Web site: www.ici.edu.

6. The National Collaborative on Workforce and Disability Web site: www.ncwd-youth.info/ig.html.

In addition, a model demonstration project must:

1. Provide a detailed management plan for project goals, objectives, and activities;

2. Describe how they plan to comply with the employment nondiscrimination and equal opportunity requirements of the various laws listed in the assurances section, and how they plan to meet the needs of individuals with disabilities from diverse cultures and/or racial and ethnic groups;

3. Use rigorous quantitative or qualitative evaluation methods and data;

4. Evaluate the model by using multiple measures of results to determine the effectiveness of the model and its components or strategies for continuous program improvements;

5. Produce detailed procedures and materials that would enable others to replicate the model;

6. Communicate with appropriate audiences through means such as technical assistance providers and disseminators, publications, conference presentations, and/or a web site. (If the project maintains a web site, it must include relevant information and documents in an accessible form); and

7. Collaborate with appropriate Federal and state agencies and programs, such as the Department of Health and Human Services Maternal and Child Health Bureau, Children with Special Health Care Needs Program, Health Care Financing Administration, Substance Abuse and Mental Health Services Administration, Administration on Developmental Disabilities, Social Security Administration, and the Department of Education Office of Special Education and Rehabilitation Services.

Grantees must support the travel cost associated with sending at least one representative to the annual ODEP Grantees' training conference, to be held in Washington, DC.

The Department will arrange for an independent evaluation of outcomes, impacts, and benefits of the demonstration projects. Grantees must make records available to evaluation personnel, as specified by the evaluator(s) under the direction of the Department.

V. Funding Availability

The period of performance will be 24 months from the date of execution by the Government. Up to five (5) competitive grants will be awarded in the range of $350,000 to $500,000. It is expected that the funds used for this SGA will support the costs associated with the development, implementation, and evaluation of a model demonstration project for a youth program to significantly increase the numbers of young people with disabilities participating and benefiting from program activities. Projects can use the available funds to conduct a variety of activities to support these models, such as outreach, recruitment, staff training, strategic planning, assessment, curriculum/materials development, career development, student-focused planning, program alignment, partnership building, reasonable accommodations, etc. Youth programs are required to use existing funding to provide direct services to young people with disabilities.

VI. Eligible Applicants

To be eligible, applicants must be WIA grant recipients for a local area, fiscal agents for such grant recipients, Local Boards, and/or competitively selected eligible youth service providers. Each grantee must involve members of two specific groups in strategic planning and implementation activities: youth with disabilities, and relevant experts in the field of young people with disabilities (such as disability organizations, researchers, policy makers, employers, family members and/or family organizations, independent living centers, or service providers.)

According to section 18 of the Lobbying Disclosure Act of 1995, an organization, as described in section 501(c)(4) of the Internal Revenue Code of 1986, that engages in lobbying activities will not be eligible for the receipt of federal funds constituting an award, grant, or loan. See 2 U.S.C. 1611; 26 U.S.C. 501(c)(4).

VII. Application Contents

General Requirements—Two copies and an original of the proposal must be submitted, one of which must contain an original signature. Proposals must be submitted by the applicant only. There are three required sections of the application. Requirements for each section are provided in this application package.

Part I—Executive Summary

The Executive Summary must be no more than 2 single-spaced pages in length giving a clear summary of the project narrative.

Part II—Project Narrative—(Appendices: Letters of Commitment/Support, Resumes, etc.)

Applicants must include a project narrative that addresses the Statement of Work in Part IV of this notice and the selection criteria that are used by reviewers in evaluating the application.

You must limit the project narrative to the equivalent of no more than fifty (50) pages using the following standard. This page limit does not apply to Part I, the Executive Summary; Part III, the Project Financial Plan (Budget); and, the Appendices (the assurances and certifications, resumes, a bibliography or references, and the letters of support). A page is 8.5″ x 11″ (on one side only) with one-inch margins (top, bottom, and sides). All text in the application narrative, including titles, headings, footnotes, quotations, and captions, as well as all text in charts, tables, figures, and graphs must be double-spaced (no more than three lines per vertical inch); and, if using a proportional computer font, use no smaller than a 12-point font, and an average character density no greater than 18 characters per inch (if using a non-proportional font or a typewriter, do not use more than 12 characters per inch.)

Applicants must also include in Part II of the proposal a narrative that addresses all of the Evaluation Criteria (section VIII below) that will be used by reviewers in evaluating individual proposals.

Applicants shall collaborate with other research institutes, centers, and studies and evaluations that are supported by DOL and other relevant Federal agencies.

Part III Project Financial Plan (Budget)

Applications must include a detailed financial plan that identifies by line item the budget plan designed to achieve the goals of this grant. The Financial Plan must contain the SF-424, Application for Federal Assistance, (Appendix A) and a Budget Information Sheet SF-424A (Appendix B).

In addition, the budget must include on a separate page a detailed cost analysis of each line item. Justification for administrative costs must be provided. Approval of a budget by DOL is not the same as the approval of actual costs. The individual signing the SF 424 on behalf of the applicant must represent and be able to legally bind the responsible financial and administrative entity for a grant should that application result in an award. The applicant must also include the Assurances and Certifications Signature Page (Appendix C).

VIII. Evaluation Criteria/Selection

A. Evaluation Criteria

The application must include appropriate information of the type described below.

1. Significance of the Proposed Project (20 Points)

In determining the significance of the proposed project, the Department considers the following factors:

a. The potential contribution of the proposed project to increase knowledge or understanding of problems, issues, or effective strategies for youth programs in serving young people with disabilities;

b. The extent to which the proposed project is likely to yield findings that may be used by other appropriate agencies and organizations;

c. The extent to which the proposed project involves the development or demonstration of promising new strategies that build on, or are alternatives to, existing strategies;

d. The likely utility of the products (such as information, materials, processes, or techniques) that will result from the proposed project, including the potential for the products' being used effectively in a variety of other settings;

e. The extent to which the promising practices of the proposed project are to be disseminated in ways that will enable others to use the information or strategies;

f. The potential replicability (national significance) of the proposed project or strategies, including, as appropriate, the potential for implementation in a variety of settings; and,

g. The importance or magnitude of the results which are likely to be attained by the proposed project.

2. Quality of the Project Design (20 Points)

In evaluating the quality of the proposed project design, the Department considers the following factors:

a. The extent to which the goals, objectives, and outcomes to be achieved by the proposed project are clearly specified and measurable;

b. The extent to which the design of the proposed project is appropriate to, and will successfully address, the needs of the target population and other identified needs;

c. The extent to which the design of the proposed project can measure methods for recruiting and serving youth with disabilities each year;

d. The extent to which the proposal demonstration incorporates the four key themes identified in Part IV, Statement of Work;

e. The extent to which the proposed project is designed to build capacity and yield results that will extend beyond the period of this grant;

f. The extent to which the design of the proposed project reflects a review of disability related literature, up-to-date knowledge from research and effective practice of youth-centered planning and youth development principles and approaches, and the use of appropriate methodological tools to ensure successful achievement of project objectives;

g. The extent to which the proposed project will be coordinated with similar or related efforts, and with other appropriate community, state, and Federal resources;

h. The extent to which the applicant encourages involvement of young people with disabilities, relevant experts, and organizations in project activities; and,

i. The extent to which performance feedback and continuous improvement are integral to the design of the proposed project.

3. Quality of Project Personnel (15 Points)

The Project Narrative must describe the proposed staffing of the project and must identify and summarize the qualifications of the personnel who will carry it out. The projects funded under this notice must make positive efforts to employ and advance in employment qualified individuals with disabilities in project activities. In addition, the Department considers the qualifications, including relevant education, training and experience of key project personnel as well as the qualifications, including relevant training and experience of project consultants or subcontractors. Resumes must be included in the Appendices.

4. Adequacy of Resources (10 Points)

In evaluating the adequacy of resources for the proposed project, the Department considers the following factors:

a. The adequacy of support, including facilities, equipment, supplies, and other resources, from the applicant organization or the lead applicant organization;

b. The relevance and demonstrated commitment of each partner in the proposed project to the implementation and success of the project;

c. The extent to which the budget is adequate to support the proposed project;

d. The extent to which the costs are reasonable in relation to the objectives, design, and potential significance of the proposed project; and

e. The extent to which the applicant proposes to leverage other resources and funds, or to use these funds to leverage other funds.

The applicant may include letters of commitment from proposed partners in the Appendix.

5. Quality of the Management Plan (20 points)

In evaluating the quality of the management plan for the proposed project, the Department considers the following factors:

a. The extent to which the management plan for project implementation achieves the objectives of the proposed project on time and within budget, including clearly defined staff responsibilities, and time allocated to project activities, time lines, milestones for accomplishing project tasks and project deliverables;

b. The adequacy of mechanisms for ensuring high-quality products and services from the proposed project; and,

c. The extent to which the time commitments of the project director and/or principal investigator and other key project personnel are appropriate and adequate to meet the objectives of the proposed project.

6. Quality of the Project Evaluation (15 points)

In evaluating the quality of the project's evaluation design, the Department considers the following factors:

a. The extent to which the methods of evaluation are thorough, feasible, and appropriate to the goals, objectives, context, and outcomes of the proposed project;

b. The extent to which the methods of evaluation provide for examining the effectiveness of project implementation strategies;

c. The extent to which the methods of evaluation include the use of objective performance measures that are clearly related to the intended outcomes of the project and will produce quantitative and qualitative data;

d. The extent to which the evaluation will provide information to other youth programs about effective strategies suitable for replication or testing in other settings; and,

e. The extent to which the methods of evaluation measure in both quantitative and qualitative terms, program results and satisfaction of youth with disabilities.

B. Selection Criteria

Acceptance of a proposal and an award of federal funds to sponsor any program(s) is not a waiver of any grant requirement and/or procedures. Grantees must comply with all applicable Federal statutes, regulations, administrative requirements and OMB Circulars. For example, the OMB circulars require, and an entity's procurement procedures must require, that all procurement transactions shall be conducted, as practical, to provide open and free competition. If a proposal identifies a specific entity to provide the services, the award does not provide the justification or basis to sole-source the procurement, i.e., to avoid competition.

Applications will be reviewed by a panel using the criteria described in this SGA. Applications will be ranked based on the score assigned by the panel after careful evaluation by each panel member. The ranking will be the primary basis to identify applicants as potential grantees. Although the Government reserves the right to award on the basis of the initial proposal submissions, the Government may establish a competitive range, based upon the proposal evaluation, for the purpose of selecting qualified applicants. The panel's conclusions are advisory in nature and not binding on the Grant Officer. The Government reserves the right to ask for clarification or hold discussions, but is not obligated to do so. The Government further reserves the right to select applicants out of rank order if such a selection would, in its opinion, result in the most effective and appropriate combination considering factors such as:

1. Findings of the grant technical evaluation panel

2. Geographic distribution of the competitive applications;

3. Assuring a variety of program designs; and,

4. The availability of funds.

IX. Reporting

Grantees must submit financial and participation reports under this program as prescribed by OMB Circulars A-102 and A-110 as applicable. See also 29 CFR parts 95 & 97. It is estimated that the quarterly program report will take five (5) hours to complete. These include:

1. Financial Reports;

2. Quarterly and Final Program Results and Reports on the Satisfaction of Youth with Disabilities;

3. Other Reporting (to Technical Assistance Service Providers, etc.), as prescribed by DOL.

X. Administrative Provisions

A. Administrative Standards and Provisions

Grants awarded under this SGA are subject to the following:

• 29 CFR Part 95—Uniform Administrative Requirements for Grants and Cooperative Agreements with Institutions of Higher Education.

• 29 CFR Part 96—Federal Standards for Audit of Federally Funded Grants, Contracts, and Agreements

• 29 CFR Part 97—Uniform Administrative Requirements for Grants and Cooperative Agreements to State and Local Governments

The grant awarded under this SGA shall be subject to the following:

B. Allowable Costs

Determinations of allowable costs are made in accordance with the following applicable Federal cost principles:

• State and Local Government—OMB Circular A-87

• Nonprofit Organizations—OMB Circular A-122

• Profit-making Commercial Firms—48 CFR Part 31

Profit will not be considered an allowable cost in any case.

C. Grant Non-Discrimination Assurances

Each applicant must include an assurance that, as a condition of the award, the applicant will comply fully with the nondiscrimination and equal opportunity provisions of the following laws:

• 29 CFR part 31—Nondiscrimination in Federally-assisted programs of the Department of Labor, effectuation of Title VI of the Civil Rights Act of 1964. (Title VI of the Civil Rights Act of 1964)

• 29 CFR part 32—Nondiscrimination on the Basis of Disability in Programs and Activities Receiving or Benefiting from Federal Assistance. (Section 504 of the Rehabilitation Act)

• 29 CFR part 36—Nondiscrimination on the Basis of Sex in Education Programs or Activities Receiving Federal Financial Assistance. (Title IX of the Education Amendments of 1972)

• 29 CFR part 37 Implementation of the Nondiscrimination and Equal Opportunity Provisions of the Workforce Investment Act of 1998 (WIA)

The applicant must include the attached assurances and certifications.

D. Limitation on Administrative and Indirect Costs

1. Direct Costs for administration, plus any indirect charges claimed.

2. Indirect costs claimed by the applicant must be based on a federally approved rate. A copy of the negotiated, approved, and signed indirect cost negotiation agreement must be submitted with the application.

3. If the applicant does not presently have an approved indirect cost rate, a proposed rate with justification may be submitted. Successful applicants will be required to negotiate an acceptable and allowable rate with the appropriate DOL Regional Office of Cost Determination within 90 days of grant award.

4. Rates traceable and trackable through the State Workforce Agency's Cost Accounting System represent an acceptable means of allocating costs to DOL and, therefore, can be approved for use in grants to State Workforce Agencies.

Signed at Washington, DC, this 18th day of June, 2002.
Lawrence J. Kuss,
Grant Officer.

APPENDIX A. Application for Federal Assistance, Form SF 424

APPENDIX B. Budget Information Sheet, Form SF 424A

APPENDIX C. Assurances and Certifications Signature Page

BILLING CODE 4510-CX-P

[FR Doc. 02-16099 Filed 6-25-02; 8:45 am]

BILLING CODE 4510-CX-C